FEDERAL COMMUNICATIONS COMMISSION

47 CFR Part 73

[DA 03-2479, MB Docket No. 02-363, RM-10604]

Analog and Digital Television Broadcast Service; Asheville, NC and Greenville, SC

AGENCY: Federal Communications Commission.

ACTION: Final rule.

SUMMARY: The Commission, at the request of Meredith Corporation, licensee of Station WHNS(TV), channel 21 and paired digital channel 57, Asheville, North Carolina, reallots channel 21 and paired digital channel 57, from Asheville to Greenville, South Carolina, and modifies station WHNS(TV)'s license accordingly.

With this action, this proceeding is terminated.

DATES: Effective September 12, 2003.

FOR FURTHER INFORMATION CONTACT: Brad Lerner, Media Bureau, (202) 418-1600.

SUPPLEMENTARY INFORMATION: This is a synopsis of the Commission's Report and Order, MB Docket No.02-363, adopted July 24, 2003, and released August 1, 2003. The full text of this document is available for public inspection and copying during regular business hours in the FCC Reference Information Center, Portals II, 445 12th Street, SW., Room CY-A257, Washington, DC. This document may also be purchased from the Commission's duplicating contractor, Qualex International, Portals II, 445 12th Street, SW., CY-B402, Washington, DC, 20554, telephone 202-863-2893, facsimile 202-863-2898, or via e-mail at qualexint@aol.com.

List of Subjects in 47 CFR Part 73

Digital television broadcasting, Television.

For the reasons discussed in the preamble, the Federal Communications Commission amends 47 CFR part 73 as follows:

PART 73—RADIO BROADCAST SERVICES

1. The authority citation for part 73 continues to read as follows:

Authority: 47 U.S.C. 154, 303, 334 and 336.

§ 73.606 [Amended]

2. Section 73.606, the Table of Television Allotments under North Carolina, is amended by removing channel 21 at Asheville and under South Carolina, is amended by adding channel 21 at Greenville.

§ 73.622 [Amended]

3. Section 73.622(b), the Table of Digital Television Allotments under North Carolina, is amended by removing DTV Channel 21 at Asheville and under South Carolina, is amended by adding DTV channel 57 at Greenville.

Federal Communications Commission.
Barbara A. Kreisman,
Chief, Video Division, Media Bureau.

[FR Doc. 03-20050 Filed 8-5-03; 8:45 am]

BILLING CODE 6712-01-P